AFRICAN DEVELOPMENT FOUNDATION

Board of Directors Meeting

Time: Thursday, April 12, 2012, 8:45 a.m. to 1 p.m.

Place: African Development Foundation, Conference Room, 1400 I Street NW., Suite 1000, Washington, DC 20005.

Date: Thursday, April 12, 2012.

Status: 1. Open session, Thursday, April 12, 2012, 8:45 a.m. to 11:45 a.m.; and

2. Closed session, Thursday, April 12, 2012, 12 p.m. to 1 p.m.

Due to security requirements and limited seating, all individuals wishing to attend the open session of the meeting must notify Sarah Conway at (202) 233-8811 or sconway@usadf.gov of your request to attend by 5 p.m. on Thursday, April 5, 2012.

Lloyd O. Pierson,
President & CEO, USADF.

[FR Doc. 2012-6920 Filed 3-21-12; 8:45 am]

BILLING CODE P